Proclamation 7774 of April 17, 2004

National Crime Victims' Rights Week, 2004

By the President of the United States of America

A Proclamation

We have made significant advances in reducing crime in our communities. As we continue to work to prevent crime, we also have a duty to help victims as they cope with the trauma of crimes committed against them. Each year during National Crime Victims' Rights Week, we acknowledge the suffering endured by crime victims, and we honor those who bring hope and comfort to victims and their families.

This year marks the 20th anniversary of the passage of the Victims of Crime Act of 1984 (VOCA), landmark legislation that sustains thousands of local victim assistance programs across the country. Established by VOCA, the Crime Victims Fund provides crucial assistance for victims and their families, including counseling, shelter, courtroom advocacy, and help with expenses. In recent years, VOCA has begun addressing issues such as cybercrime, identity theft, hate violence, and stalking. It has also expanded its services to help victims of domestic and international terrorism.

While our Nation works to prevent terrorist activities, we also continue to wage a war against other crimes. In fighting violent crime, we battle the problems of drug abuse, gun violence, and other threats to our safety. We must ensure that when crimes do occur, we always protect the rights of victims. For this reason, my Administration continues to endorse the bipartisan Crime Victims' Rights Amendment. By allowing victims of violent crime to be present and heard at public proceedings and by giving them access to information, such an amendment would guarantee victims' inclusion in the criminal justice process without threatening the rights of defendants.

While the Congress considers this amendment, my Administration continues to support important resources for victims and public safety. We have directed funding to improve the use of DNA technology to solve crime and identify missing persons; we are employing multiple agency resources to aid victims of trafficking who are forced into slavery and prostitution; and we are encouraging faith-based organizations to provide spiritual and material sustenance to those who have suffered and lost.

This month, I was pleased to sign into law the Unborn Victims of Violence Act of 2004, which creates a separate offense under Federal law for death or injury to an unborn child, in addition to any charges relating to the mother. Across our country, victims are being better served and better protected, but more can be done. I encourage every community to show compassion to victims and their families by providing them with the support they need.

NOW, THEREFORE, I, GEORGE W. BUSH, President of the United States of America, by virtue of the authority vested in me by the Constitution and laws of the United States, do hereby proclaim April 18 through April 24, 2004, as National Crime Victims' Rights Week. I encourage all Americans to embrace the cause of victims' rights and help to advance it throughout our society.

IN WITNESS WHEREOF, I have hereunto set my hand this seventeenth day of April, in the year of our Lord two thousand four, and of the Independence of the United States of America the two hundred and twenty-eighth.

B

[FR Doc. 04-9208

Filed 4-20-04;9:44 am]

Billing code 3195-01-P